DEPARTMENT OF TRANSPORTATION

Office of the Secretary

Notice of Applications for Certificates of Public Convenience and Necessity and Foreign Air Carrier Permits Filed Under Subpart B (Formerly Subpart Q) During the Week Ending October 13, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0171.

Date Filed: October 11, 2012.

Due Date for Answers, Conforming Applications, or Motion to Modify Scope: November 1, 2012.

Description: Application of Fly Jamaica Airways Limited requesting a foreign air carrier permit and corresponding exemption authority entitling it to engage in scheduled air transportation between points on the following routes: (1) From points behind Jamaica via Jamaica and intermediate points to a point or points in the United States; (2) for all-cargo services between the United States and any point or points; (3) fifth freedom charter services pursuant to the prior approval requirements and; (4) such other, further, or different relief as may be proper.

Docket Number: DOT-OST-2012-0169.

Date Filed: October 9, 2012.

Due Date for Answers, Conforming Applications, or Motion to Modify Scope: October 30, 2012.

Description: Application of New Livingston S.p.A. requesting exemption authority and a foreign air carrier permit to engage in: (a) Foreign charter air transportation of persons, property, and mail from any point or points behind any Member State of the European Community via any point or points in any Member State and via intermediate points to any point or points in the United States and beyond; (b) foreign charter air transportation of persons, property, and mail between any point or points in the United States and any point or points in any Member State of the European Common Aviation Area; (c) foreign charter cargo air transportation between any point or points in the United States and any other point or points; and (d) charter transportation consistent with any future, additional rights that may be granted to foreign air carriers of the Member States of the European Community.

Barbara J. Hairston,
Acting Program Manager, Docket Operations, Federal Register Liaison.

[FR Doc. 2012-27500 Filed 11-9-12; 8:45 am]

BILLING CODE 4910-9X-P